DEPARTMENT OF COMMERCE

Foreign-Trade Zones Board

[B-47-2017]

Foreign-Trade Zone (FTZ) 52—Suffolk County, New York; Notification of Proposed Production Activity; Estee Lauder Inc. (Skin Care, Fragrance, and Cosmetic Products), Melville, New York

Estee Lauder Inc. (Estee Lauder) submitted a notification of proposed production activity to the FTZ Board for its facility in Melville, New York within FTZ 52. The notification conforming to the requirements of the regulations of the FTZ Board (15 CFR 400.22) was received on June 16, 2017.

The Estee Lauder facility is located within Site 4 of FTZ 52. The facility is used for the manufacturing and distribution of skin care, fragrance, and cosmetic products. Pursuant to 15 CFR 400.14(b), FTZ activity would be limited to the specific foreign-status materials and components and specific finished products described in the submitted notification (as described below) and subsequently authorized by the FTZ Board.

Production under FTZ procedures could exempt Estee Lauder from customs duty payments on the foreign-status components used in export production. On its domestic sales, for the foreign-status materials/components noted below, Estee Lauder would be able to choose the duty rates during customs entry procedures that apply to: Perfumes; lip make-up; eye make-up; manicure/pedicure preparation pads; rouge powder; non-rouge cosmetic powder; cosmetic make-up; shampoo; hair lacquers; conditioner; hair straightening product; hair colorant; hair thickener; toothpaste; shaving preparations; deodorants; bath salts and other bath preparations; room spray; depilatory cream; soap (for toilet use); skin wash; and, washing and cleansing powders and liquids (duty rate ranges from free to 6.5%). Customs duties also could possibly be deferred or reduced on foreign-status production equipment.

The components and materials sourced from abroad include: Seaweeds and Other Algae; Vegetable Saps & Extract of Licorice; Paeonia Suffruticosa Extract; Sclerotium Gum; Hydrolyzed Candida Saitoana Extract; Salicornia Herbacea Extract; Carrageenan; Wool Grease and Fatty Substances; Olive Oil; Sunflower Seed Oil; Castor Oils; Vegetable Oils; Jojoba Oils; Vegetable Fats and Oils; Fixed Vegetable Fats/Oils; Jojoba Oil and its Fractions; Vegetable Waxes; Candelilla Wax; Carnauba Wax; Bayberry Wax; Body Butter; Raspberry Leaves Wax; Carnauba Vegetable Waxes; Bleach Bee Wax; Salt; Kaolin Clays; Hectorite; Adipic Acid; Brazilian Green Fuchsite; Calcite; Isododecane; Isohexadecane; Mineral Oil; White Mineral Oil; Paraffin Wax; Synthetic Beeswax; Ceresin Wax; Microcrystalline Wax; Isoparaffin; Ozokerite; Synthetic Wax; Polyethylene Glycols; Hydrogen Fluoride; Ammonia; Zinc Oxide/Zinc Peroxide; Aluminum Hydroxide; Chromium Oxides; Titanium Dioxide Blends; Magnesium Sulfates; Calcium Carbonate; Silicate; Calcium Aluminum Borosilicate; Magnesium Aluminum Silicate; Hydrides, Nitrides, Azides, Silicides and Borides; Dodecan, Hexadecan and Octadecan; Amyl Alcohol; Propylene Glycol; Glycerol; Ester of Glycerol; Sterols and Inositols; Benzyl Alcohol; Butylated Hydroxytoluene; 1-Naphthol; Toluene-2,5-diamine; 2-methyl-resorcino; p-Aminophenol; 5-Amino-2-Cresol; Phenol Alcohols; Aromatic Alcohol; Thiotaine; Chlorphenesin; Phenoxyethanol; Diglycerin; Polyquaternium‐37; Polyethylene Glycols; PEG-20 Glyceryl Triisostearate; Ethylene glycol phenyl ether; Aromatic Ether Alcohols; Ether Alcohols; Ketone-phenols; Odoriferous or Flavoring Compounds; Propionic Acid; Ester of Myristic, Palmitic and Stearic Acids; Sodium Stearate; Triglycerides; PEG-100 Stearate; Behenic Acid; Isopropyl Myristate; Wheat Germ Glycerides; Tridecyl Stearate; Triethylhexanoin; Ceramide NG; Butyl Avocadate; Sucrose Polybehenate; Glyceryl Stearate SE; Sucrose Polycotton Seedate; Isodecyl Neopentanoate; Isononyl Isononanoate; Ethylhexyl Palmitate; Neopentyl Glycol Dicaprate; Octyl Stearate; Polyoxyalkylene Fatty Acid Esters; Isopropyl Triisostearate; Polyglyceryl Isostearate; Phytosteryl Isostearate; Methyl Glucose Sesquistearate; Ethylhexyl Hydroxystearate; Castor Isostearate Succinate; Isodecyl Isononanoate; Ethyl Hexyl Isononanoate; Myristic Acid; Isononyl Isononanoate; Neopentyl Glycol Diheptanoate; Polyoxyethylene (100) Stearate; Ethyl Hexyl Stearate; Ethylene/VA Copolymer; Ethylene/Acrylic Acid Copolymer; Polyethylene; Tridecyl Octanoate; Tridecyl Trimellitate; Butyl Acetate; Alcohol Denatured; Isobutyrate; Sucrose Polyesters; Behenic Acid; Cetyl Acetate; Glyceryl Behenate; Diisostearyl Malate; Castor Isostearate Succinate; Pentaerythrityl Pentaisononanoate; Caprylyl Glycol; Diethylhexyl Succinate; Hydroxyethyl Urea; Cetearyl Isononanoate; Neopentyl Glycol Dicaprate; Fatty Acids of Animal or Vegetable; Saturated Acid; Esters of Acrylic Acid; Oleic, Linoelec or Linolenic Acids; Plastic of Acyclic; Fumaric Acid; Lactic Acid Salts & Esters; Citric Acid; Salts and Esters of Citric Acid; Salicylic Acid/Salts; Carboxylic Acid; Carboxylic Acid Blend; Butyl Paraben; Propyl Paraben; Lauryl PCA; Methyl Paraben NF; Phenoxyethanol; Butyloctyl Salicylate; Pentaerythritol; Propyl Carbonate; Isononyl Isononanoate and Quartenium-90 Bentonite and Propylene Carbonate Gel; Cyclopentasiloxane (and) Disteardimonium Hectorite (and) Propylene Carbonate Gel; Ethylenediamine and its salts; Amino Alcohol; Amino Hydroxy Naphthalenesulfonic acids; Glutamic Acid; Amino Acids; Amino Acids—Aromatic; Lecithins and Other Phosphoaminolipids; Acetyl L Carnitine Hydrochloric Acid; Ammonium Acryloyldimethyltaurate; Quaternium-22; Steardimonium Chloride; Coco-Betaine; Polyquaternium-6; Cetyl Trimethyl Ammonium Chloride; Hexamethylenetetramine Chloroallyl Chloride; Betaine; Quaternary Ammonium Salts and Hydroxides; Pathenyl Hydroxypropyl Steardimonium Chloride; Hair Conditioning Agent; Quaternary Ammonium Chloride; Ammonium Acryloyldimethyltaurate and VP Copolymer Blend; Cetrimonium Chloride; Polyquaternium-7; Organo Silicon Compounds; Organo Aromatic; Lactones; N-Acetyl-D-Glucosamine; Ascorbyl Phosphate; Glucosamine; PEG-120 Methyl Glucose Dioleate; Heterocyclic Compounds; Vitamin B; Caffeine and its Salt; D Mannose; Trehalose; Cyclodextrins; Lactobionic Acid; Trehalose Dihydrate; Sucrose; Oxalis Triangularis Extract (Jeju Island Love Plant); Acetylated Sucrose Distearate; Ascorbic Acid; Ascorbic Acid 2 Glucoside; Synthetic Manganese-Porphyrin Complexes; Moisturizing Polymers; Non-phospholipid Vesicules; Pigment/Preparation; Light Diffusing Powders; Titanium Oxide; Cosmetic Emollient; Silica Blend; Pearlescent Agent; Titanium Dioxide, Silica and Synthetic Fluorphlogopite Blend; Titanium Dioxide and Wax Blend; Assorted Color Cosmetic Pigments of Mica, Iron Oxide, Silica and Titanium Dioxide; Fungicides; Indmono Oil; Indmono Oil Derived from Coconut; Industrial Fatty Alcohols; Binders for Foundry Molds or Cores; Polymers of Ethylene; Charcoal Powder; and, Mica Plate, Sheet, Strip (duty rate ranges from free to 7.7% or 8.8¢/kg or 84¢/bbl).

The request indicates that Polyethylene; Citric Acid; Salts and Esters of Citric Acid; and Pigment/Preparation are subject to antidumping/countervailing duty (AD/CVD) orders. The FTZ Board's regulations (15 CFR 400.14(e)) require that merchandise subject to AD/CVD orders be admitted to the zone in privileged foreign status (19 CFR 146.41).

The request also indicates that the following components and materials will be admitted to the zone in privileged foreign status (19 CFR 146.41), thereby precluding inverted tariff benefits on such items: Trehalose; Cyclodextrins; Lactobionic Acid; Trehalose Dihydrate; Sucrose; Oxalis Triangularis Extract (Jeju Island Love Plant); Acetylated Sucrose Distearate; Ascorbic Acid; Ascorbic Acid 2 Glucoside; Pigment/Preparation; Light Diffusing Powders; Titanium Dioxide; Cosmetic Emollient; Silica Blend; Pearlescent Agent; Titanium Dioxide, Silica and Synthetic Fluorphlogopite Blend; Titanium Dioxide and Wax Blend; and, Assorted Color Cosmetic Pigments of Mica, Iron Oxide, Silica and Titanium Dioxide.

Public comment is invited from interested parties. Submissions shall be addressed to the Board's Executive Secretary at the address below. The closing period for their receipt is August 21, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at Juanita.Chen@trade.gov or (202) 482-1378.

Dated: July 6, 2017.
Elizabeth Whiteman,
Acting Executive Secretary.

[FR Doc. 2017-14613 Filed 7-11-17; 8:45 am]

BILLING CODE 3510-DS-P